FEDERAL RESERVE SYSTEM

Notice of Proposals To Engage in or To Acquire Companies Engaged in Permissible Nonbanking Activities; Correction

This notice corrects a notice (FR Doc. 2014-14219) published on pages 34754 and 34755 of the issue for Wednesday, June 18, 2014.

Under the Federal Reserve Bank of Minneapolis heading, the entry for Minnwest Corporation, Minnetonka, Minnesota, is revised to read as follows:

A. Federal Reserve Bank of Minneapolis (Jacquelyn K. Brunmeier, Assistant Vice President) 90 Hennepin Avenue, Minneapolis, Minnesota 55480-0291.

1. Minnwest Corporation, Minnetonka, Minnesota; to acquire 100 percent of the voting shares of HiLine Credit Corporation, Morris, Minnesota, by merging with and into its wholly owned nonbank subsidiary, Minnwest Finance, Inc., Minnetonka, Minnesota, and thereby engage in extending credit and servicing loans, pursuant to section 225.28(b)(1), and the leasing of personal or real property, pursuant to section 225.28(b)(3), both of Regulation Y.

Comments on this application must be received by July 3, 2014.

Board of Governors of the Federal Reserve System, June 18, 2014.
Michael J. Lewandowski,
Associate Secretary of the Board.

[FR Doc. 2014-14555 Filed 6-20-14; 8:45 am]

BILLING CODE 6210-01-P